DEPARTMENT OF AGRICULTURE

Rural Utilities Service

Central Electric Power Cooperative, Inc.: Notice of Intent To Hold a Public Scoping Meeting and Prepare an Environmental Impact Statement

AGENCY: Rural Utilities Service, USDA.

ACTION: Notice of Intent to Hold a Public Scoping Meeting and Prepare an Environmental Impact Statement.

SUMMARY: The Rural Utilities Service (RUS) intends to hold a public scoping meeting and prepare an Environmental Impact Statement (EIS) to meet its responsibilities under the National Environmental Policy Act (NEPA), the Council on Environmental Quality's regulations for implementing NEPA (40 CFR parts 1500-1508), RUS's Environmental and Policies and Procedures (7 CFR part 1794), and the U.S. Forest Service (USFS)'s National Environmental Policy Act Procedures (36 CFR part 220) in connection with potential impacts related to a proposal by Central Electric Power Cooperative, Inc., (Central Electric) of Columbia, South Carolina. The proposal consists of constructing a 115 kilovolt (kV) transmission line through portions of Berkeley, Charleston, and/or Georgetown Counties, South Carolina, to the proposed McClellanville substation. Central Electric is requesting that RUS provide financial assistance for the proposal and may request that the USFS issue a special use permit for the proposal. RUS is the lead agency conducting the EIS, and the USFS will be acting as a cooperating agency.

DATES: RUS and the USFS will conduct a public scoping meeting in an open-house format with a formal presentation. The meeting will be held on Wednesday, September 29, 2010, from 5 to 9 p.m. at St. James-Santee Elementary School, 8900 U.S. 17, North Charleston, South Carolina 29405. The formal presentation will be made at 6 p.m. and 8 p.m. The presentation will provide an overview of the Federal actions being considered by RUS and the USFS (i.e., consideration of financial assistance and permit issuance), an overview of NEPA and the EIS-process, and the purpose/need and alternatives considered in the development of the proposal. Comments regarding the proposal may be submitted in writing at the public scoping meeting or in writing by October 29, 2010, to the RUS address provided in this Notice.

ADDRESSES: To send comments or for further information, please contact Ms. Lauren McGee, Environmental Scientist, USDA Rural Utilities Service, Engineering and Environmental Staff, 1400 Independence Avenue, SW., Stop 1571, Room 2244-S, Washington, DC 20250-1571, telephone: (202) 720-1482, fax: (202) 690-0649, or e-mail: lauren.mcgee@wdc.udsa.gov.

An updated Alternatives Evaluation Study (AES) and Macro-Corridor Study (MCS) was prepared for the proposal by Central Electric and Mangi Environmental Group, Inc. The AES and MCS discuss the purpose/need for the proposal and the alternatives considered in the proposal's development. The AES and MCS (both dated September 2010) are available for public review at the RUS address provided in this Notice, at the following RUS Web site: http://www.usda.gov/rus/water/ees/eis.htm, and at the following repositories:

Berkeley County Library—Moncks Corner (Main), 1003 Hwy 52, Moncks Corner, South Carolina 29461; telephone: (843) 719-4223.

Charleston County Main Library, 68 Calhoun Street, Charleston, South Carolina 29401; telephone: (843) 805-6930.

Georgetown Library (Headquarters), 405 Cleland Street, Georgetown, South Carolina 29440; telephone: (843) 545-3300.

McClellanville Library, 222 Baker Street, McClellanville, South Carolina 29458; telephone: (843) 887-3699.

U.S. Forest Service, Wambaw Office, McClellanville, South Carolina 29458; telephone: (843) 887-3257.

Sewee Visitor & Environmental Education Center, 5821 Highway 17 North, Awendaw, South Carolina 29429; telephone: (843) 928-3368.

SUPPLEMENTARY INFORMATION: Central Electric proposes to construct a 115-kV transmission line to Berkeley Electric Cooperative's proposed McClellanville substation. The proposal would provide long-term, reliable electric service to the McClellanville community and surrounding areas. It would also reduce the number and length of extended outages in this service area and reduce the number of momentary interruptions or blinks. The transmission line may originate from one of the following points: Belle Isle (Georgetown County), Winyah/Britton Neck (Georgetown County), Jamestown (Berkeley County), Honey Hill (Berkeley County), and/or Charity (Charleston County). With this Notice, government agencies, organizations, and the public are invited to provide input in the development of the EIS for the proposal.

Scoping was previously conducted for the proposal during December 2005—January 2006. At that time, a Notice of Intent (NOI) to prepare an Environmental Assessment and hold a public scoping meeting was published in the Federal Register on November 29, 2005 (Vol. 70, No. 228, 71462). A public scoping meeting was held on December 14, 2005, at the McClellanville Government Services Building. The public was notified of the meeting via letter to landowners and interested parties; public service announcements on radio stations in Charleston and Georgetown, South Carolina; and announcements published in the Georgetown Times and Charleston Post & Courier. Approximately 150-200 people attended the public meeting. A scoping report, which summarizes comments received from agencies and the public, is available for public review at the RUS Web site listed in this Notice. Based on comments received from agencies and the public, RUS decided that an EIS should be prepared for the proposal. In addition, RUS determined that a new macro-corridor alternative should be considered (Winyah/Britton Neck via private forestlands). Development of this new alternative and the refinement of the other macro-corridor alternatives were based on information acquired from agencies and the public during the December 2005-January 2006 scoping period. RUS is holding a second scoping meeting to inform agencies and the public of these changes to the scope of the proposal and to gather more input for use in the development of the EIS.

Among the alternatives that RUS will address in the EIS is the “No Action” alternative, under which the proposal would not be undertaken. In the EIS, the effects of the proposal will be compared to the existing conditions in the proposal area. Alternative transmission line corridors will be refined as part of the EIS scoping process and will be addressed in the EIS. Public health and safety, environmental impacts, and engineering aspects of the proposal will be considered in the EIS.

RUS is the lead Federal agency, as defined at 40 CFR 1501.5, for preparation of the EIS. The USFS is a cooperating agency. With this Notice, federally recognized Native American Tribes and Federal agencies with jurisdiction or special expertise are invited to be cooperating agencies. Such tribes or agencies may make a request to RUS to be a cooperating agency by contacting the RUS contact provided in this Notice. Designated cooperating agencies have certain responsibilities to support the NEPA process, as specified at 40 CFR 1501.6(b).

As part of its broad environmental review process, RUS must take into account the effect of the proposal on historic properties in accordance with Section 106 of the National Historic Preservation Act (Section 106) and its implementing regulation, “Protection of Historic Properties” (36 CFR part 800). Pursuant to 36 CFR 800.2(d)(3), RUS is using its procedures for public involvement under NEPA to meet its responsibilities to solicit and consider the views of the public during Section 106 review. Accordingly, comments submitted in response to scoping will inform RUS decision-making in Section 106 review. Any party wishing to participate more directly with RUS as a “consulting party” in Section 106 review may submit a written request to the RUS contact provided in this Notice.

RUS will use input provided by government agencies, private organizations, and the public in the preparation of the draft EIS. The draft EIS will be available for review and comment for 45 days. A final EIS that considers all comments received will subsequently be prepared. The final EIS will be available for review for 30 days. Following the 30-day review period, RUS will prepare a Record of Decision (ROD). Notices announcing the availability of the draft EIS, the final EIS, and the ROD will be published in the Federal Register and in local newspapers.

Any final action by RUS related to the proposal will be subject to, and contingent upon, compliance with all relevant executive orders and Federal, state, and local environmental laws and regulations in addition to the completion of the environmental review requirements as prescribed in RUS's Environmental Policies and Procedures, 7 CFR part 1794, as amended.

Mark S. Plank,
Director, Engineering and Environmental Staff, USDA, Rural Utilities Service.

[FR Doc. 2010-22964 Filed 9-16-10; 8:45 am]

BILLING CODE P